DEPARTMENT OF TRANSPORTATION

Federal Railroad Administration

Notice Rescinding a Notice of Intent To Prepare an Environmental Impact Statement for the Altamont Corridor Rail Project From Stockton to San Jose, California

AGENCY: Federal Railroad Administration (FRA), U.S. Department of Transportation (DOT).

ACTION: Notice rescinding intent to prepare an Environmental Impact Statement (EIS).

SUMMARY: The Federal Railroad Administration (FRA) is issuing this notice to advise the public that FRA is rescinding the Notice of Intent (NOI) to prepare a programmatic environmental impact statement (EIS) for the Altamont Corridor Rail Project from Stockton to San Jose, California Project in cooperation with the project sponsor, the California High Speed Rail Authority (Authority). FRA published the original NOI in the Federal Register on October 29, 2009. This rescission is due to the transfer of the project from the Authority to the San Joaquin Regional Rail Commission (SJRRC) and a change in the project definition and purpose and need. An NOI to prepare an Environmental Impact Statement (EIS) for the revised Altamont Corridor Express also known as the ACEforward project is being published concurrently with this notice.

FOR FURTHER INFORMATION CONTACT: Ms. Stephanie Perez-Arrieta, Environmental Protection Specialist, Federal Railroad Administration, 1200 New Jersey Avenue Southeast, (Mail Stop 20), Washington, DC 20590, telephone (202) 493-0388.

SUPPLEMENTARY INFORMATION: The Altamont Corridor was studied by the Authority and identified as a candidate route to the Bay Area in the Statewide High Speed Train (HST) System Program Environmental Impact Report/Environmental Impact Statement (EIR/EIS). The Authority and FRA further examined the corridor in the 2008 Bay Area to Central Valley HST EIR/EIS and selected the Pacheco Pass via Gilroy as the route to connect the main line of the HST network in the Central Valley with the Peninsula and San Francisco. The Authority and SJRRC proposed to develop a dedicated regional rail corridor through Altamont Pass and the Tri Valley area capable of supporting intercity and commuter rail passenger services. The project was planned to improve the existing ACE service managed by SJRRC by accommodating more trains per day, reducing travel times, and eliminating freight railroad delays by providing separate passenger tracks. The Altamont Corridor was planned to serve as a feeder to the statewide HST System being planned and developed by the Authority. The project considered connections between the Altamont corridor and the HST mainline between Stockton and Modesto and HST compatible infrastructure that would have allowed trains to run from one rail line to the other in order to accommodate intercity travel between stations along the Altamont Corridor and regional stops on the greater statewide HST System.

Scoping was completed for the EIR/EIS in 2009 and the development of preliminary alternatives in 2010 and 2011. No further work was completed on the EIS. Due to the proposed change in leadership and direction of this project, FRA is issuing this notice terminating the preparation of the Altamont Corridor Rail Project EIS.

Issued in Washington, DC, on September 13, 2013.
Renee Cooper,
Staff Director, Office of Passenger and Freight Programs.

[FR Doc. 2013-22599 Filed 9-17-13; 8:45 am]

BILLING CODE 4910-06-P